ENVIRONMENTAL PROTECTION AGENCY

[FRL-9921-45-Region-5]

Notice of Renewal of Federal Operating Permit for Grand Casino Mille Lacs

AGENCY: Environmental Protection Agency.

ACTION: Notice.

SUMMARY: This notice announces that, on December 5, 2014, pursuant to title V of the Clean Air Act (Act), the Environmental Protection Agency (EPA) issued a federal operating permit renewal to the Mille Lacs Band Corporate Commission for the Grand Casino Mille Lacs in Onamia, Minnesota. The operating permit authorizes the operation of four diesel-fired generators used for backup power and peak load management and of one diesel-fired emergency generator.

ADDRESSES: The final signed permit is available for public inspection online at http://yosemite.epa.gov/r5/r5ard.nsf/Tribal+Permits!OpenView, or during normal business hours at the following address: U.S. Environmental Protection Agency, Region 5, Air and Radiation Division, 77 West Jackson Boulevard, Chicago, Illinois, 60604. We recommend that you call Michael Langman, Environmental Scientist, at (312) 886-6867 before visiting the Region 5 office.

FOR FURTHER INFORMATION CONTACT: Michael Langman, Environmental Scientist, Air Permits Section, Air Programs Branch (AR-18J), Environmental Protection Agency, Region 5, 77 West Jackson Boulevard, Chicago, Illinois 60604, (312) 886-6867, langman.michael@epa.gov.

SUPPLEMENTARY INFORMATION: Throughout this document whenever “we,” “us,” or “our” is used, we mean EPA.

A. What Is the Background Information?

The Mille Lacs Band Corporate Commissions owns and operates Grand Casino Mille Lacs, which is located on lands held in trust for the Mille Lacs Band of Ojibwe Indians in Onamia, Minnesota. Emission units at Grand Casino Mille Lacs consist of five diesel-fired generators. Four diesel-fired generators are used for backup power and peak load management operations and one diesel-fired generator is used for emergency backup power generation.

On February 24, 2014, the Mille Lacs Band Corporate Commission submitted an operating permit renewal application pursuant to 40 CFR part 71. On April 9, 2014, EPA determined that the submitted application was timely and complete and, therefore, granted an application shield pursuant to 40 CFR 71.7(b). The application shield allowed the facility to continue to operate pursuant to the terms and conditions of its expiring operating permit without violating the Act's prohibition on operation without a permit, until EPA took final action on the permit renewal application.

On July 11, 2014, EPA requested additional information required to make a final decision on the permit application. The Mille Lacs Band Corporate Commission submitted its response to the request for additional information on August 4, 2014.

On October 24, 2014, EPA issued a draft renewal permit for public comment pursuant to 40 CFR 71.11(d). The public comment period ended on November 24, 2014. EPA did not receive any comments regarding the proposal to renew the permit.

EPA issued the final permit for Grand Casino Mille Lacs, permit number V-ML-2709500005-2014-10, on December 5, 2014. Pursuant to 40 CFR 71.11(i)(2)(iii), the permit became effective immediately upon issuance since EPA did not receive any comments requesting a change in the draft permit.

B. Appeal of the Permit

Pursuant to 40 CFR 71.11(l), because no one filed comments on the proposed permit renewal and the final permit is identical to the permit as proposed, any person may petition for administrative review of the permit only to the extent that grounds for a petition have arisen that were not reasonably foreseeable during the public comment period on the draft permit. The 30-day period during which a person may seek review under 40 CFR 71.11(l) began on December 10, 2014, the date on which EPA notified the Mille Lacs Band Corporate Commission of issuance of the permit.

C. What Is the Purpose of This Notice?

EPA is notifying the public of the issuance of a title V operating permit renewal, permit number V-ML-2709500005-2014-10, issued on December 5, 2014, to the Mille Lacs Band Corporate Commission for the Grand Casino Mille Lacs. The permit became effective on December 5, 2014.

Authority: 42 U.S.C. 7401 et seq.

Dated: December 30, 2014.
Susan Hedman,
Regional Administrator, Region 5.

[FR Doc. 2015-00163 Filed 1-8-15; 8:45 am]

BILLING CODE 6560-50-P